COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities and to delete products previously furnished by such agencies.

DATES: Comments must be received on or before: 7/30/2012.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 8501-8506) in connection with the products and services proposed for addition to the Procurement List.

Comments on this certification are invited. Commenters should identify the statement(s) underlying the certification on which they are providing additional information.

End of Certification

The following products and services are proposed for addition to Procurement List for production by the nonprofit agencies listed:

Products

NSN: 8415-MD-001-0268—Sack, Compression Stuff, Extreme Cold Weather (ECW CSS) US Marine Corps, One size fits all.

NPA: The Lighthouse for the Blind, Inc. (Seattle Lighthouse), Seattle, WA.

Contracting Activity: Dept of the Army, W6QK ACC-APG Natick, Natick, MA.

Coverage: C-List for 100% of the requirement of the U.S. Marine Corps, as aggregated by the Army Contracting Command—Aberdeen Proving Ground, Natick Contracting Division, Natick, MA.

NSN: 8950-01-E61-8129—Spice, Oregano Leaf, Whole, 6/5 oz Containers.

NSN: 8950-01-E61-8133—Spice, Oregano Leaf, Whole, 3/24 oz Containers.

NSN: 8950-01-E61-0664—Spice, Thyme, Ground, 6/12 oz Containers.

NSN: 8950-01-E61-8136—Spice, Thyme, Leaf, Whole, 6/6 oz Containers.

NSN: 8950-01-E62-2182—Spice, Basil, Leaf, Whole 3/1.62 lb Containers.

NSN: 8950-01-E60-9314—Spice, Basil, Ground, 6/12 oz Containers.

NSN: 8950-01-E60-9311—Spice, Blend, Poultry, 6/12 oz Containers.

NSN: 8950-01-E62-0115—Spice, Blend, Curry, Powder, No MSG, 6/16 oz Containers.

NSN: 8950-01-E62-0116—Spice, Blend, Santa Fe, 6/16 oz Containers.

NSN: 8950-01-E62-2187—Spice, Onion, Granulated, 6/18 oz Containers.

NSN: 8950-01-E62-0149—Spice, Bay Leaf, Whole, 6/2 oz Containers.

NSN: 8950-00-NSH-0234—Spice, Blend, Cajun, 6/22 oz Containers.

NSN: 8950-01-E61-6697—Spice, Blend, Italian Seasoning, 6/6.25 oz Containers.

NSN: 8950-01-E62-2190—Spice, Blend, Italian Seasoning, 3/28 oz Containers.

NSN: 8950-01-E62-2191—Spice, Pepper, Red, Crushed, 3/3.25 lb Containers.

NPA: CDS Monarch, Webster, NY.

Contracting Activity: Defense Logistics Agency Troop Support, Philadelphia, PA.

Coverage: C-List for 100% of the requirement of the Department of Defense, as aggregated by the Defense Logistics Agency Troop Support, Philadelphia, PA.

Services

Service Type/Locations: Operation Support Service, Aberdeen Proving Ground, MD, National Ground Intelligence Center (NGIC).

Rivanna Station Complex, 2055 Boulders Road, Charlottesville, VA.

NPA: The Chimes, Inc., Baltimore, MD.

Contracting Activity: Dept of the Army, 0002 MI CTR Contract DODAAC, Charlottesville, VA.

Service Types/Location: Grounds Maintenance Service, National Aeronautics and Space Administration, Goddard Space Flight Center, Wallops Flight Facility, Bldg. E105, Room 319, Wallops Island, VA.

NPA: Didlake, Inc., Manassas, VA.

Contracting Activity: National Aeronautics and Space Administration, Goddard Space Flight Center, Greenbelt, MD.

Service Types/Location: Custodial Service, National Aeronautics and Space Administration, Goddard Space Flight Center, Wallops Flight Facility, Bldg. E105, Room 319, Wallops Island, VA.

NPA: The ARC of the Virginia Peninsula, Inc., Hampton, VA.

Contracting Activity: National Aeronautics and Space Administration, Goddard Space Flight Center, Greenbelt, MD.

Service Type/Location: Mess Attendant Services, 121st Air Refueling Wing, 7370 Minuteman Way, Redtail Dining Facility, Bldg. 917, Columbus, OH.

NPA: First Capital Enterprises, Inc., Chillicothe, OH.

Contracting Activity: Dept of the Army, W7NU USPFO Activity OH ARNG, Columbus, OH.

Mess Attendant Services tasks are defined in the Performance Work Statement and include replenishing tableware and table items, cleaning dining room tables and chairs or benches as needed, including spills, after each meal service, providing cashier services; cleaning and sanitizing food service equipment and utensils; washing, rinsing, and drying tableware, cookware, and kitchen and serving line utensils; cleaning tops and sides of dining tables, monitoring the cleanliness of the Salad Bar area during meal periods, and serving food on the line throughout the duration of the meal period.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 8501-8506) in connection with the products proposed for deletion from the Procurement List.

End of Certification

The following products are proposed for deletion from the Procurement List:

Products

Binder, Loose-leaf, 3-Ring

NSN: 7510-01-484-1760.

NSN: 7510-01-484-1752.

NSN: 7510-01-484-1750.

NSN: 7510-01-484-1751.

NSN: 7510-01-484-1748.

NSN: 7510-01-484-1749.

NPA: South Texas Lighthouse for the Blind, Corpus Christi, TX.

Contracting Activity: General Services Administration, New York, NY.

Bag, Sleeping, Firefighter's

NSN: 8465-00-081-0798.

NPAs: Blind Industries & Services of Maryland, Baltimore, MD.

RLCB, Raleigh, NC.

Contracting Activity: General Services Administration, Fort Worth, TX.

NSN: M.R. 552—Nitrile Disposable Gloves.

NSN: M.R. 553—Latex Disposable Gloves.

NPA: New York City Industries for the Blind, Inc., Brooklyn, NY.

Contracting Activity: Military Resale-Defense Commissary Agency, Fort Lee, VA.

Barry S. Lineback,
Director, Business Operations.

[FR Doc. 2012-15983 Filed 6-28-12; 8:45 am]

BILLING CODE 6353-01-P